DEPARTMENT OF TRANSPORTATION

Federal Aviation Administration

Potential Environmental Impacts of the Proposed Runway 13 Extension and Associated Actions for the Devils Lake Regional Airport in Devils Lake, ND

AGENCY: Federal Aviation Administration (FAA), Department of Transportation (DOT).

ACTION: Notice of availability of a final EA and FONSI/ROD for the evaluation of the potential environmental impacts associated with the proposed Runway 13 extension and associated actions for Devils Lake Regional Airport in Devils Lake, North Dakota.

SUMMARY: The FAA has issued the final EA and FONSI/ROD for the proposed Runway 13 extension and associated actions for Devils Lake Regional Airport. The EA was prepared in accordance with the National Environmental Policy Act (NEPA) of 1969, as amended, FAA Orders 1050.1E, “Environmental Impacts: Policies and Procedures” and FAA Order 5050.4B, “NEPA Implementing Instructions for Airport Actions”.

Point of Contact: Ms. Patricia Dressler, Environmental Protection Specialist, FAA Bismarck Airports District Office (ADO), 2301 University Drive, Building 23B, Bismarck, North Dakota, 58504. Telephone number (701) 323-7380.

SUPPLEMENTARY INFORMATION: The FAA is issuing a final EA and FONSI/ROD that evaluated the potential environmental impacts associated with the proposed runway extension and associated actions at Devils Lake Regional Airport located in Devils Lake, North Dakota. Based on the analysis contained in the final EA, the FAA has determined the selected alternative has no associated significant impacts to resources identified in accordance with FAA Order 1050.1E, Environmental Impacts: Policies and Procedures and FAA Order 5054.4B, National Environmental Policy Act Implementing Instructions for Airport Actions. Therefore, no environmental impact statement will be prepared. The runway extension project is needed to enhance the utility and safety of the Devils Lake Regional Airport for current and projected levels of aviation by the design aircraft family.

Eight alternatives were studied for meeting the purpose and need. Four of the eight alternatives (including new location) were reviewed, analyzed, discarded due to the degree of environmental impacts and not meeting purpose and need. A detailed discussion is in the FONSI/ROD Section entitled V. Alternatives Considered and Discarded. The selected alternative is one of four considered in the final EA. The selected alternative consists of addressing the identified needs.

The selected alternative includes the: (1) Unconditional approval of the Airport Layout Plan (ALP) for the development listed in the EA and the decision document. (2) Issue final airspace determinations for the development listed on the ALP. (3) Eligibility for Federal grants-in-aid funds for eligible items. (4) Approval for the development or revision, implementation, and use of air traffic/flight procedures to implement the proposed action. (5) FAA finding of “No Historic Properties Affected” for the Proposed Action. (6) FAA finding of “No Effect” to the endangered species gray wolves and finding of “may affect, not likely to adversely affect” the endangered species whooping cranes. (7) FAA floodplain finding that there is no prudent and practicable alternative to this impact and the propose action includes all practicable measures to minimize harm to floodplains. (8) FAA wetland finding that there is no practicable alternatives to such construction and the proposed action includes all practicable measure to minimize harm to wetlands. (9) FAA DOT Section 4(f) De Minimis Impact Findings on wetland properties. (10) Appropriate permits and mitigation will be needed before disbursing Federal funds.

These documents will be available for public review during normal business hours at:

Federal Aviation Administration Bismarck ADO, 2301 University Drive, Building 23B, Bismarck, North Dakota 58504.

Devils Lake Regional Airport, 106 National Guard Street, Devils Lake, North Dakota 58301.

Ramsey County Auditors Office, 524 4th Avenue, NE, Unit 6, Devils Lake, North Dakota 58301.

Devils Lake City Hall, 423 6th Street, NE., Devils Lake, North Dakota 58302.

Lake Region Public Library, 423 7th Street, NE., Devils Lake, North Dakota, 58301.

Issued in Bismarck, North Dakota, April 7, 2011.
Thomas T. Schauer,
Manager, Bismarck Airport District Office FAA, Great Lakes Region.

[FR Doc. 2011-9227 Filed 4-18-11; 8:45 am]

BILLING CODE 4910-13-P